DEPARTMENT OF THE TREASURY

United States Mint

Notification of United States Mint Coin Product Price Adjustment

SUMMARY: The United States Mint is announcing the price of the 2008 American Eagle Silver Uncirculated Coin.

Because of increases in the cost of silver, the United States Mint will begin accepting orders for the 2008 American Eagle Silver Uncirculated Coin at the price indicated below, effective March 17, 2008:

Product | 2007 price | New 2008 coin price
American Eagle Silver Uncirculated Coin | $21.95 | $25.95

FOR FURTHER INFORMATION CONTACT: Gloria C. Eskridge, Associate Director for Sales and Marketing; United States Mint; 801 Ninth Street, NW., Washington, DC 20220; or call 202-354-7500.

Authority: 31 U.S.C. 5111, 5112 & 9701.

Dated: March 3, 2008.
Edmund C. Moy,
Director, United States Mint.

[FR Doc. E8-4688 Filed 3-7-08; 8:45 am]

BILLING CODE 4810-02-P